DEPARTMENT OF EDUCATION

Applications for New Awards; Technical Assistance and Dissemination To Improve Services and Results for Children With Disabilities—State Technical Assistance Projects To Improve Services and Results for DeafBlind Children and National Technical Assistance and Dissemination Center for DeafBlind Children; Corrections

AGENCY: Office of Special Education and Rehabilitative Services, Department of Education.

ACTION: Notice; corrections.

SUMMARY: On December 19, 2022, the Department of Education (Department) published in the Federal Register a notice inviting applications (NIA) for new awards for fiscal year (FY) 2023 for State Technical Assistance Projects to Improve Services and Results for DeafBlind Children and a National Technical Assistance and Dissemination Center for DeafBlind Children, Assistance Listing Number (ALN) 84.326T. The Department is amending the NIA by extending the application submission deadline and intergovernmental review deadline, increasing the estimated available funds, updating the estimated range of awards and average size of awards, updating the maximum award amounts, and allowing subgrants.

DATES:

Applicability Date: This correction is applicable February 9, 2023.

Deadline for Transmittal of Applications: March 13, 2023.

Deadline for Intergovernmental Review: May 12, 2023.

FOR FURTHER INFORMATION CONTACT: Susan Weigert, U.S. Department of Education, 400 Maryland Avenue SW, Room 5076, Potomac Center Plaza, Washington, DC 20202-5076. Telephone: (202) 245-6522. Email: Susan.Weigert@ed.gov.

If you are deaf, hard of hearing, or have a speech disability and wish to access telecommunications relay services, please dial 7-1-1.

SUPPLEMENTARY INFORMATION: On December 19, 2022, we published the NIA in the Federal Register (87 FR 77575). Following the publication of the NIA, the Joint Explanatory Statement accompanying Division H of the Consolidated Appropriations Act, 2023 (Pub. L. 117-328) indicated an intent by Congress to provide an increase of $1,000,000 for the Technical Assistance and Dissemination to Improve Services and Results for Children with Disabilities—State Technical Assistance Projects to Improve Services and Results for DeafBlind Children and National Technical Assistance and Dissemination Center for DeafBlind Children to strengthen support for the abilities and needs of children with deaf-blindness, including through intervener services. Accordingly, we are correcting the NIA to reflect the updated estimated range of awards and average size of awards, updated maximum award amounts, and allowance of subgrants.

In addition, we are extending the application deadline date to March 13, 2023, and extending the intergovernmental review deadline to May 12, 2023. Applicants that have already submitted applications under the FY 2023 State Technical Assistance Projects to Improve Services and Results for DeafBlind Children and National Technical Assistance and Dissemination Center for DeafBlind Children competition may resubmit applications but are not required to do so. If a new application is not submitted, the Department will use the application that was submitted by the original deadline. If a new application is submitted, the Department will review the most recent application submitted before the deadline of March 13, 2023.

Other than extending the application submission deadline and intergovernmental review deadline, increasing the estimated available funds, updating the estimated range of awards and average size of awards, updating the maximum award amounts, and allowing subgrants, all other requirements and conditions stated in the NIA remain the same.

Program Authority: 20 U.S.C. 1462, 1463 and 1481.

Corrections

In FR Doc. 2022-27457, appearing on pages 77575-77585 of the Federal Register of December 19, 2022 (87 FR 77575), we make the following corrections:

(1) On page 77575, in the first column, following the heading “Deadline for Transmittal of Applications:” remove “February 17, 2023.” and add, in its place, “March 13, 2023.”

(2) On page 77575, in the first column, following the heading “Deadline for Intergovernmental Review:” remove “April 18, 2023.” and add, in its place, “May 12, 2023.”

(3) On page 77581, in the third column, following the heading “Estimated Available Funds:” remove “The Administration requested $49,345,000 for the Technical Assistance and Dissemination to Improve Services and Results for Children with Disabilities program for FY 2023, of which we intend to use an estimated $11,100,000 for this competition; and $250,000,000 for the Personnel Development to Improve Services and Results for Children with Disabilities program, of which we intend to use an estimated $500,000 for this competition. The actual level of funding, if any, depends on final congressional action. However, we are inviting applications to allow enough time to complete the grant process if Congress appropriates funds for this program.” and add, in its place, “$12,600,000, including $12,100,000 from the FY 2023 Technical Assistance and Dissemination to Improve Services and Results for Children with Disabilities Program appropriation and $500,000 from the FY 2023 Personnel Development to Improve Services and Results for Children with Disabilities Program appropriation.”

(4) On page 77581, in the third column, following the heading “Estimated Range of Awards:” remove “$2,100,000” and add, in its place, “$2,200,000”.

(5) On page 77581, in the third column, following the heading “Estimated Average Size of Awards:” remove “Focus Area A: $176,000. Focus Area B: $2,100,000.” and add, in its place, “Focus Area A: See chart. Focus Area B: $2,200,000.”

(6) On page 77581, in the third column, following the heading “Maximum Award:” remove “In determining the maximum funding levels for each State, the Secretary considered, among other things, the following factors: (1) The total number of children from birth through age 21 in the State. (2) The number of children in poverty in the State. (3) The previous funding levels. (4) The minimum funding amounts. (5) The travel costs associated with serving the geographic location of the State” and add, in its place, “In determining the maximum funding levels for each State, the Secretary applied a standard percentage increase over the 2018 award amount for each State and then considered, among other things, the travel costs associated with serving the geographic location of the State”.

(7) On page 77582, in the first column, remove the chart titled “FY 2023 FUNDING LEVELS BY STATE FOR FOCUS AREA A” and add, in its place, the following chart:

“FY 2023 Funding Levels by State for Focus Area A
Alabama | $181,590
Alaska | 145,323
Arizona | 221,803
Arkansas | 120,642
California | 628,566
Colorado | 172,439
Connecticut | 106,731
Delaware | 71,055
District of Columbia | 71,055
Florida | 474,903
Georgia | 348,578
Hawaii | 81,055
Idaho | 96,109
Illinois | 375,869
Indiana | 228,772
Iowa | 107,742
Kansas | 128,597
Kentucky | 164,366
Louisiana | 167,031
Maine | 71,055
Maryland | 174,436
Massachusetts | 166,152
Michigan | 303,225
Minnesota | 180,179
Mississippi | 131,876
Missouri | 204,153
Montana | 132,667
Nebraska | 90,837
Nevada | 123,430
New Hampshire | 71,055
New Jersey | 271,466
New Mexico | 117,970
New York | 596,455
North Carolina | 339,984
North Dakota | 85,266
Ohio | 328,187
Oklahoma | 148,623
Oregon | 133,543
Pennsylvania | 383,591
Rhode Island | 71,055
South Carolina | 161,936
South Dakota | 108,622
Tennessee | 239,905
Texas | 628,566
Utah | 120,736
Vermont | 78,107
Virginia | 258,237
Washington | 212,573
West Virginia | 100,556
Wisconsin | 183,644
Wyoming | 85,266
Puerto Rico | 71,055
Pacific ** | 100,571
Virgin Islands | 32,795
Total | 10,400,000
** The areas to be served by this award are the outlying areas of American Samoa, Guam, and the Commonwealth of the Northern Mariana Islands, as well as the freely associated States of the Republic of the Marshall Islands, the Federated States of Micronesia, and the Republic of Palau. An applicant for this award must propose to serve all of these areas.”

(8) On page 77582, in the first column, following the heading “Focus Area B:”, remove, “$2,100,000” and add, in its place, “$2,200,000”.

(9) On page 77582, in the third column, following the heading “Subgrantees”, remove “A grantee under this competition may not award subgrants to entities to directly carry out project activities described in its application. Under 34 CFR 75.708(e), a grantee may contract for supplies, equipment, and other services in accordance with 2 CFR part 200.” and add, in its place, “Under 34 CFR 75.708(b) and (c) a grantee under this competition may award subgrants—to directly carry out project activities described in its application—to the following types of entities: institutions of higher education, nonprofit organizations, and other public agencies suitable to carry out the activities proposed in the application. The grantee may award subgrants to entities it has identified in an approved application or that it selects through a competition under procedures established by the grantee.”

Accessible Format: On request to the program contact person listed under FOR FURTHER INFORMATION CONTACT, individuals with disabilities can obtain this document, the NIA, and a copy of the application package in an accessible format. The Department will provide the requestor with an accessible format that may include Rich Text Format (RTF) or text format (TXT), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2023-02720 Filed 2-8-23; 8:45 am]

BILLING CODE 4000-01-P